ENVIRONMENTAL PROTECTION AGENCY

40 CFR Part 180

[EPA-HQ-OPP-2024-0534; FRL-12765-01-OCSPP]

RIN 2070-ZA16

Pesticide Tolerances; Implementing Registration Review Decisions for Certain Pesticides; Hydrogen Cyanide, et al.

AGENCY: Environmental Protection Agency (EPA).

ACTION: Proposed rule.

SUMMARY: The Environmental Protection Agency (EPA or Agency) is proposing to implement several tolerance actions under the Federal Food, Drug, and Cosmetic Act (FFDCA) that the Agency determined were necessary or appropriate during the registration review conducted under the Federal Insecticide, Fungicide, and Rodenticide Act (FIFRA). During registration review, EPA reviews all aspects of a pesticide case, including existing tolerances, to ensure that the pesticide continues to meet the standard for registration under FIFRA. The pesticide tolerances and active ingredients addressed in this rulemaking are identified and discussed in detail in Unit III. of this document.

DATES: Comments must be received on or before August 8, 2025.

ADDRESSES: Submit your comments, identified by docket identification (ID) number EPA-HQ-OPP-2024-0534, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Smith, Pesticide Re-Evaluation Division (7508M), Office of Pesticide Programs, Environmental Protection Agency, 1200 Pennsylvania Ave. NW, Washington, DC 20460-0001; telephone number: (202) 566-2273; email address: smith.carolyn@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document might apply to them:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What action is the Agency taking?

EPA is proposing several tolerance actions that the Agency previously determined were necessary or appropriate during registration review of the pesticide active ingredients identified in Unit III. The tolerance actions for each pesticide active ingredient are described in Unit III. and may include but are not limited to the following types of actions:

• Revising tolerance expressions;

• Modifying commodity definitions;

• Updating crop groupings;

• Removing expired tolerances;

• Revoking tolerances that are no longer needed; and

• Harmonizing tolerances with the Codex Alimentarius Commission (Codex) Maximum Residue Levels (MRLs).

Although it may not have been identified in the registration review of a particular pesticide, this proposed rule reflects the Agency's 2019 adoption of the Organization of Economic Cooperation and Development (OECD) Rounding Class Practice. More information on the OECD Rounding Class Practice can be found at https://www.oecd.org/en/publications/mrl-calculator-users-guide-and-white-paper_9789264221567-en.html. Where applicable, these adjustments are proposed for specific pesticides as indicated in Unit III.

C. What is EPA's authority for taking this action?

Section 408(e) of the Federal Food, Drug and Cosmetic Act (FFDCA), 21 U.S.C. 346a(e), authorizes EPA to establish, modify, or revoke tolerances or exemptions from the requirement of a tolerance on its own initiative.

Under FIFRA section 3(g), 7 U.S.C. 136a(g), EPA is required to periodically review all registered pesticides and determine if those pesticides continue to meet the standard for registration under FIFRA. As part of the registration review of a pesticide, EPA also evaluates the existing tolerances and any tolerance changes identified as necessary or appropriate during registration review of a pesticide are summarized in the registration review decision documents for each pesticide active ingredient or registration review case (e.g., in the Proposed Interim Decision (PID), Proposed Final Decision (PFD), Interim Decision (ID) and Final Decision (FD)). These documents can be found in the public docket opened for each pesticide undergoing registration review. Additional information about pesticide registration review is available at https://www.epa.gov/pesticide-reevaluation.

Prior to issuing the final regulation, FFDCA section 408(e)(2) requires EPA to issue a notice of proposed rulemaking for a 60-day public comment period, unless the Administrator for good cause finds that it would be in the public interest to have a shorter period and states the reasons in the proposed rulemaking.

D. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see the commenting tips at https://www.epa.gov/dockets/commenting-epa-dockets.

E. What can I do if I want the Agency to maintain a tolerance that the Agency proposes to revoke?

This proposed rule provides a 60-day public comment period that allows any person to state an interest in retaining a tolerance proposed for revocation. If EPA receives such a comment within the 60-day period, EPA will not proceed to revoke the tolerance immediately. However, EPA will take steps to ensure the submission of any needed supporting data and will issue an order in the Federal Register under FFDCA section 408(f), if needed. If the data are not submitted as required in the order, EPA will take appropriate action under FFDCA.

After considering comments that are received in response to this proposed rule, EPA will issue a final rule. At the time of the final rule, you may file an objection or request a hearing on the action taken in the final rule. If you fail to file an objection to the final rule within the time period specified in the final rule, you will have waived the right to raise any issues resolved in the final rule. After the filing deadline specified in the final rule, issues resolved in the final rule cannot be raised again in any subsequent proceedings.

II. Background

A. What is a tolerance?

A “tolerance” represents the maximum level for residues of a pesticide chemical legally allowed in or on food, which includes raw agricultural commodities and processed foods and feed for animals. Under the FFDCA, residues of a pesticide chemical that are not covered by a tolerance or exemption from the requirement of a tolerance are considered unsafe. See 21 U.S.C. 346a(a)(1). Foods containing unsafe residues are deemed adulterated and may not be distributed in interstate commerce. See 21 U.S.C. 331(a) and 342(a)(2)(B). Consequently, for a food-use pesticide (i.e., a pesticide use that is likely to result in residues in or on food) to be sold and distributed in the United States, the pesticide must not only have appropriate tolerances or exemptions under the FFDCA, but also must be registered under FIFRA. Food-use pesticides not registered in the United States must have tolerances or exemptions in order for commodities treated with those pesticides to be imported into the United States. For additional information about tolerances, go to https://www.epa.gov/pesticide-tolerances/about-pesticide-tolerances.

B. Why does EPA consider international residue limits?

When establishing a tolerance for residues of a pesticide, EPA must determine whether Codex has established a MRL for that pesticide. See 21 U.S.C. 346a(b)(4). Additionally, as part the registration review of a pesticide (see Unit II.C.), EPA determines whether Codex or other international MRLs exist for commodities and chemicals for which U.S. tolerances have been established. Where appropriate, EPA's intention is to harmonize U.S. tolerances with those international MRLs to facilitate trade. EPA's effort to harmonize with international MRLs is summarized in the tolerance reassessment section of the individual Human Health Draft Risk Assessments that support the pesticide registration review.

C. What is registration review?

Under FIFRA section 3(g), 7 U.S.C. 136a(g), EPA is required to periodically review all registered pesticides and determine if those pesticides continue to meet the standard for registration under FIFRA. See also 40 CFR 155.40(a). The registration review program is intended to make sure that, as the ability to assess risk evolves and as policies and practices change, all registered pesticides can continue to be used without causing unreasonable adverse effects on human health and the environment. As part of the registration review of a pesticide, EPA also evaluates whether existing tolerances are safe, whether any changes to existing tolerances are necessary or appropriate, and whether any new tolerances are necessary to cover residues from registered pesticides. In addition, any tolerance changes identified as necessary or appropriate during registration review of a pesticide are summarized in the registration review decision documents for each pesticide active ingredient or registration review case (e.g., in the Proposed Interim Decision (PID), Proposed Final Decision (PFD), Interim Decision (ID) and Final Decision (FD)). These documents can be found in the public docket that has been opened for each pesticide, which is available online at https://www.regulations.gov, using the docket ID number listed in Unit III. for each pesticide active ingredient included in this proposed action. Additional information about pesticide registration review is available at https://www.epa.gov/pesticide-reevaluation.

D. EPA's Safety Assessments

FFDCA section 408(b) authorizes EPA to establish a tolerance, if the Agency determines that a tolerance is safe; FFDCA section 408(c) authorizes EPA to establish an exemption from the requirement of a tolerance if the Agency determines that the exemption is safe. See 21 U.S.C. 346a(b) and (c). If EPA determines that a tolerance or exemption is not safe, EPA must modify or revoke that tolerance or exemption. The FFDCA defines “safe” to mean that “there is a reasonable certainty that no harm will result from aggregate exposure to the pesticide chemical residue, including all anticipated dietary exposures and all other exposures for which there is reliable information.” 21 U.S.C. 346a(b)(2)(A)(ii), (c)(2)(A)(ii). This includes exposure through drinking water and in residential settings but does not include occupational exposure. FFDCA section 408(b)(2)(C) requires EPA to give special consideration to the exposure of infants and children to the pesticide chemical residue in establishing a tolerance and to “ensure that there is a reasonable certainty that no harm will result to infants and children from aggregate exposure to the pesticide chemical residue[s.]” 21 U.S.C. 346a(b)(2)(C). In addition, FFDCA section 408(b)(2)(D) contains several factors EPA must consider when making determinations about establishing, modifying, or revoking tolerances. 21 U.S.C. 346a(b)(2)(D). FFDCA section 408(c)(2)(B) requires that EPA, when making determinations about exemptions, to take into account, among other things, the considerations set forth in FFDCA section 408(b)(2)(C) and (D). 21 U.S.C. 346a(c)(2)(B).

Furthermore, when establishing tolerances or exemptions from the requirement of a tolerance, FFDCA sections 408(b)(3) and (c)(3) require that there be a practical method for detecting and measuring pesticide chemical residue levels in or on food, unless in the case of exemptions, EPA determines that such method is not needed and states the reasons therefore in the rulemaking. 21 U.S.C. 346a(b) and (c).

Consistent with its obligations under FIFRA section 3(g), 7 U.S.C. 136a(g), and FFDCA section 408, 21 U.S.C. 346a, EPA has reviewed the available scientific data and other relevant information on toxicity and exposure of the individual chemicals represented in this rulemaking. As part of registration review, the Agency has published risk assessments detailing the risks from aggregate exposure, including to infants and children, for each of the pesticides represented herein. The chemical-specific toxicity and exposure analyses, which support the safety determinations contained in Unit III., can be found in the human health risk assessment documents and related registration review decision documents, which are available in the public docket that has been opened for each pesticide, as noted in Unit III.

After considering all available information, EPA has determined it is appropriate based on the underlying safety assessments to take the tolerance actions being proposed in this rulemaking and that adequate enforcement methodology as described in the supporting documents is available to enforce the tolerance expressions.

III. Proposed Tolerance Actions

EPA is proposing to take the specific tolerance actions identified in this unit. All tolerance values proposed in the regulatory text of this rule, modified or otherwise, are being proposed to reflect current OECD rounding practices.

A. 40 CFR 180.130; Hydrogen Cyanide; Case 8002 (Docket ID No. EPA-HQ-OPP-2010-0752)

EPA is proposing to amend the current tolerance by:

• Revising the tolerance expression in paragraph (a) for hydrogen cyanide to describe more clearly the scope or coverage of the tolerance and the method for measuring compliance. Consistent with EPA policy, the revised tolerance expression would clarify that: (1) as provided in FFDCA section 408(a)(3), the tolerance covers metabolites and degradates of sodium cyanide not specifically mentioned; and (2) compliance with the specified tolerance level is to be determined by measuring only hydrogen cyanide. The revisions to the tolerance expression would not substantively change the tolerance or, in any way, modify the permissible level of residues permitted by the tolerance.

• Revising the commodity definition in paragraph (a) from “Fruit, citrus” to “Fruit, citrus, group 10-10”. This revision will help facilitate efficient commodity searches and does not substantively change the tolerance or, in any way, modify the permissible level of residues in or on the commodity listed in the regulation.

As discussed in Unit II.D., based on the supporting registration review documents, EPA has determined that the proposed amendments to the hydrogen cyanide tolerances would be safe, i.e., there is a reasonable certainty that no harm will result to the general population, or specifically to infants and children, from aggregate exposure to hydrogen cyanide residues. Adequate enforcement methodology is available.

B. 40 CFR 180.155; 1-Naphthaleneacetic Acid; Case 0379 (Docket ID No. EPA-HQ-OPP-2014-0773)

EPA is proposing to amend the current tolerance by:

• Modifying the tolerance for “Rambutan” to reflect current OECD rounding practices.

As discussed in Unit II.D., based on the supporting registration review documents, EPA has determined that the proposed amendments to the 1-naphthaleneacetic acid tolerances would be safe, i.e., there is a reasonable certainty that no harm will result to the general population, or specifically to infants and children, from aggregate exposure to 1-naphthaleneacetic acid residues. Adequate enforcement methodology is available.

C. 40 CFR 180.301; Carboxin; Case 0012 (Docket ID No. EPA-HQ-OPP-2015-0144)

EPA is proposing to amend the current tolerance by:

• Revising the tolerance expression in paragraph (a) for carboxin to describe more clearly the scope or coverage of the tolerances and the method for measuring compliance. Consistent with EPA policy, the revised tolerance expression would clarify that: (1) as provided in FFDCA section 408(a)(3), the tolerances cover metabolites and degradates of carboxin not specifically mentioned; and (2) compliance with the specified tolerance levels is to be determined by measuring the specific compounds mentioned in the tolerance expression. The revisions to the tolerance expression would not substantively change the tolerances or, in any way, modify the permissible level of residues permitted by the tolerances.

• Revising the commodity definition in paragraph (a) from “Canola, seed” to “Rapeseed, seed”. This revision of the commodity definition will help facilitate efficient commodity searches and does not substantively change the tolerance or, in any way, modify the permissible level of residues in or on the commodity listed in the regulation.

• Establishing new tolerances in paragraph (a) for “Barley, hay” at 0.2 ppm, “Cotton, gin byproducts” at 3 ppm, “Oat, hay” at 0.2 ppm, and “Wheat, hay” at 0.2 ppm. The barley, hay; oat, hay; and wheat, hay tolerances are to be established based on supervised field trials conducted for wheat seeds with carboxin. The cotton, gin byproducts tolerance is to be established based on the total radioactive residue data from a cottonseed metabolism study.

As discussed in Unit II.D., based on the supporting registration review documents, EPA has determined that the proposed amendments to the carboxin tolerances would be safe, i.e., there is a reasonable certainty that no harm will result to the general population, or specifically to infants and children, from aggregate exposure to carboxin residues. Adequate enforcement methodology is available.

D. 40 CFR 180.331; 2,4-DB; Case 0196 (Docket ID No. EPA-HQ-OPP-2013-0661)

EPA is proposing to amend the current tolerance by:

• Revising the chemical name in the title in 40 CFR 180.331 from “4-(2,4-dichlorophenoxy) butyric acid” to “2,4-DB” to more accurately reflect the chemical covered by the tolerances in that section.

• Revising the tolerance expression in paragraph (a) for 2,4-DB to describe more clearly the scope or coverage of the tolerances and the method for measuring compliance. Consistent with EPA policy, the revised tolerance expression would clarify that: (1) as provided in FFDCA section 408(a)(3), the tolerances cover metabolites and degradates of 2,4-DB not specifically mentioned; and (2) compliance with the specified tolerance levels is to be determined by measuring the specific compounds mentioned in the tolerance expression. The revisions to the tolerance expression would not substantively change the tolerances or, in any way, modify the permissible level of residues permitted by the tolerances.

• Revoking the tolerances in paragraph (a) for “Clover, forage”; “Clover, hay”; “Peppermint, tops”; and “Spearmint, tops”. During registration review, EPA determined that these entries are no longer needed since these uses have been cancelled. EPA is establishing an expiration date of December 8, 2025 for these tolerances.

• Modifying tolerances to reflect current OECD rounding practices.

As discussed in Unit II.D., based on the supporting registration review documents, EPA has determined that the proposed amendments to the 2,4-DB tolerances would be safe, i.e., there is a reasonable certainty that no harm will result to the general population, or specifically to infants and children, from aggregate exposure to 2,4-DB residues. Adequate enforcement methodology is available.

E. 40 CFR 180.345; Ethofumesate; Case 2265 (Docket ID No. EPA-HQ-OPP-2015-0406)

EPA is proposing to amend the current tolerance by:

• Revising the commodity definitions from “Beet, garden, tops” to “Beet, garden, leaves”; “Garlic” to “Garlic, bulb”; and “Grass, straw” to “Grass, forage, fodder and hay, group 17, straw”. These revisions of commodity definitions will help facilitate efficient commodity searches and do not substantively change the tolerances or, in any way, modify the permissible level of residues in or on the commodities listed in the regulation.

• Removing the tolerance for “Beet, sugar, tops” at 4.0 ppm. During registration review, EPA determined that this entry should be removed, since it is no longer a significant livestock feed item or a recognized human food. EPA is establishing an expiration date of December 8, 2025 for these tolerances.

• Modifying tolerances to reflect current OECD rounding practices.

• Establishing new tolerances for “Animal feed, nongrass, group 18” at 1.5 ppm; “Grain, cereal, forage, hay, stover, and straw, group 16-22” at 1.5 ppm; and “Vegetable, legume, forage and hay group, 7-22” at 0.5 ppm. EPA is proposing to establish these tolerances for inadvertent residues from rotational crop uptake for these livestock feed items.

As discussed in Unit II.D., based on the supporting registration review documents, EPA has determined that the proposed amendments to the ethofumesate tolerances would be safe, i.e., there is a reasonable certainty that no harm will result to the general population, or specifically to infants and children, from aggregate exposure to ethofumesate residues. Adequate enforcement methodology is available.

F. 40 CFR 180.401; Thiobencarb; Case 2665 (Docket ID No. EPA-HQ-OPP-2011-0932)

EPA is proposing to amend the current tolerance by:

• Revising the tolerance expression in paragraph (a) for thiobencarb to describe more clearly the scope or coverage of the tolerances and the method for measuring compliance. Consistent with EPA policy, the revised tolerance expression would clarify that: (1) as provided in FFDCA section 408(a)(3), the tolerances cover metabolites and degradates of thiobencarb not specifically mentioned; and (2) compliance with the specified tolerance levels is to be determined by measuring the specific compounds mentioned in the tolerance expression. The revisions to the tolerance expression would not substantively change the tolerances or, in any way, modify the permissible level of residues permitted by the tolerances.

• Establishing new tolerances in paragraph (a) for “Celery”, “Endive”, “Lettuce, head”, and “Lettuce, leaf” at 0.2 ppm. While there are no current registered uses in the United States for celery, endive, or lettuce, the Agency is requiring that these tolerances are established to ensure the commodities are covered as import tolerances (i.e., tolerances for residues without U.S. registrations).

• Revoking tolerances in paragraph (c) for “Celery”, “Endive”, and “Lettuce”, since these tolerances are being moved to paragraph (a). Revoking and removing paragraph (c) will prevent redundancy in listed tolerances, as well as clarify that the import tolerances specified are not considered to be tolerances with regional registration, as defined in § 180.1(l).

As discussed in Unit II.D., based on the supporting registration review documents, EPA has determined that the proposed amendments to the thiobencarb tolerances would be safe, i.e., there is a reasonable certainty that no harm will result to the general population, or specifically to infants and children, from aggregate exposure to thiobencarb residues. Adequate enforcement methodology is available.

G. 40 CFR 180.491; Propylene Oxide; Case 2560 (Docket ID No. EPA-HQ-OPP-2013-0156)

EPA is proposing to amend the current tolerance by:

• Revising the commodity definition from “Fig” to “Fig, dried”. This revision of the commodity definition will ensure the current tolerance is not exceeded, facilitate efficient commodity searches, and does not substantively change the tolerance or, in any way, modify the permissible level of residues in or on the commodity listed in the regulation.

• Updating the existing crop group tolerance for residues of propylene oxide on “Nut, tree, group 14” to the updated crop group “Nut, tree, group 14-12” at the same level (300 ppm). Upon establishment of the new crop group, and to prevent redundancy, the Agency proposes to remove tolerances that would be unnecessary once they are superseded by the tolerances established for the new crop group, including the tolerances for “Nut, pine”; “Nutmeat, processed, except peanuts”; and “Pistachio”. Those commodities would be covered under the updated crop grouping “Nut, tree, group 14-12”. This revision would ensure the current tolerance is not exceeded. 40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V (85 FR 70985, November 6, 2020 (FRL-10015-19)).

• Removing all tolerances in paragraph (a)(2) and removing the paragraph to prevent redundancy. During registration review, EPA determined that these entries are no longer needed since propylene oxide residues alone are adequate for detection of propylene oxide misuse for enforcement activities, and there are no established Codex MRLs for propylene chlorohydrin. For regulatory clarity, and to ensure residues of propylene oxide reaction products (including propylene chlorohydrin and propylene bromohydrin) remain covered under the tolerance changes being proposed, the Agency has included specific tolerance expression language to specify the inclusion of these reaction products.

• Modifying tolerances to reflect current OECD rounding practices.

As discussed in Unit II.D., based on the supporting registration review documents, EPA has determined that the proposed amendments to the propylene oxide tolerances would be safe, i.e., there is a reasonable certainty that no harm will result to the general population, or specifically to infants and children, from aggregate exposure to propylene oxide residues. Adequate enforcement methodology is available.

H. 40 CFR 180.562; Flucarbazone-Sodium; Case 7251 (Docket ID No. EPA-HQ-OPP-2013-0283)

EPA is proposing to amend the current tolerance by:

• Establishing new paragraphs (a)(1) and (a)(2) under paragraph (a) for the wheat commodities in paragraph (a)(1) and the livestock commodities in paragraph (a)(2).

• Revising the tolerance expressions for flucarbazone-sodium to describe more clearly the scope or coverage of the tolerances and the method for measuring compliance. Consistent with EPA policy, the revised tolerance expressions would clarify that: (1) as provided in FFDCA section 408(a)(3), the tolerances cover metabolites and degradates of flucarbazone-sodium not specifically mentioned; and (2) compliance with the specified tolerance levels is to be determined by measuring the specific compounds mentioned in the tolerance expression. The revisions to the tolerance expression would not substantively change the tolerances or, in any way, modify the permissible level of residues permitted by the tolerances.

• Modifying tolerances to reflect current OECD rounding practices.

• Modifying the tolerance value for “Wheat, hay” from 0.10 to 0.2 to support the 15-day grazing/harvest interval.

As discussed in Unit II.D., based on the supporting registration review documents, EPA has determined that the proposed amendments to the flucarbazone-sodium tolerances would be safe, i.e., there is a reasonable certainty that no harm will result to the general population, or specifically to infants and children, from aggregate exposure to flucarbazone-sodium residues. Adequate enforcement methodology is available.

IV. Proposed Effective and Expiration Date(s)

EPA is proposing that these tolerance actions would be effective on the date of publication of the final rule in the Federal Register. For actions in the final rule that lower or revoke existing tolerances, EPA is proposing to add an expiration date for the existing tolerance of 180 days (approximately 6 months) after the date of publication of the final rule in the Federal Register, to allow a reasonable interval for producers in exporting members of the World Trade Organization's (WTO's) Sanitary and Phytosanitary (SPS) Measures Agreement to adapt to the requirements.

V. Statutory and Executive Order Reviews

Additional information about these statutes and Executive Orders can be found at https://www.epa.gov/laws-regulations/laws-and-executive-orders.

A. Executive Order 12866: Regulatory Planning and Review

This action is exempt from review under Executive Order 12866 (58 FR 51735, October 4, 1993), because it proposes to establish or modify a pesticide tolerance or a tolerance exemption under FFDCA section 408. This exemption also applies to tolerance revocations for which extraordinary circumstances do not exist. As such, this exemption applies to the tolerance revocations in this proposed rule because the Agency knows of no extraordinary circumstances that warrant reconsideration of this exemption for those proposed tolerance revocations.

B. Executive Order 14192: Unleashing Prosperity Through Deregulation

Executive Order 14192 (90 FR 9065, February 6, 2025) does not apply because actions that establish a tolerance under FFDCA section 408 are exempted from review under Executive Order 12866.

C. Paperwork Reduction Act (PRA)

This action does not impose an information collection burden under the PRA 44 U.S.C. 3501 et seq., because it does not contain any information collection activities.

D. Regulatory Flexibility Act (RFA)

I certify that this action will not have a significant economic impact on a substantial number of small entities under the RFA, 5 U.S.C. 601 et seq. In making this determination, EPA concludes that the impact of concern for this action is any significant adverse economic impact on small entities and that the Agency is certifying that this action will not have a significant economic impact on a substantial number of small entities because the action has no net burden on small entities subject to this rulemaking. This determination takes into account an EPA analysis for tolerance establishments and modifications that published in the Federal Register of May 4, 1981 (46 FR 24950 (FRL-1809-5)) and for tolerance revocations on December 17, 1997 (62 FR 66020 (FRL-5753-1)). Additionally, in a 2001 memorandum, EPA determined that eight conditions must all be satisfied in order for an import tolerance or tolerance exemption revocation to adversely affect a significant number of small entity importers, and that there is a negligible joint probability of all eight conditions holding simultaneously with respect to any particular revocation. See Memorandum from Denise Keehner, Division Director, Biological and Economic Analysis Division, Office of Pesticide Programs, entitled “RFA/SBREFA Certification for Import Tolerance Revocation” and dated May 25, 2001, which is available in docket ID No. EPA-HQ-OPP-2005-0322 at https://www.regulations.gov.

For the pesticides named in this rulemaking, EPA concludes that there is no reasonable expectation that residues of the pesticides for tolerances listed in this rulemaking for revocation will be found on the commodities discussed in this rulemaking, and the Agency knows of no extraordinary circumstances that exist as to the present proposed rule that would change EPA's previous analyses.

Any comments about the Agency's determination for this rulemaking should be submitted to EPA along with comments on the proposed rule and will be addressed in the final rule.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any State, Local or Tribal governments or the private sector.

F. Executive Order 13132: Federalism

This action does not have federalism implications as specified in Executive Order 13132 (64 FR 43255, August 10, 1999), because it will not have substantial direct effects on the states, on the relationship between the National Government and the States, or on the distribution of power and responsibilities among the various levels of government.

G. Executive Order 13175: Consultation and Coordination With Indian Tribal Governments

This action does not have Tribal implications as specified in Executive Order 13175 (65 FR 67249, November 9, 2000), because it will not have substantial direct effects on Tribal governments, on the relationship between the Federal Government and the Indian Tribes, or on the distribution of power and responsibilities between the Federal Government and Indian Tribes.

H. Executive Order 13045: Protection of Children From Environmental Health Risks and Safety Risks

This action is not subject to Executive Order 13045 (62 FR 19885, April 23, 1997) because it is not a significant regulatory action under section 3(f)(1) of Executive Order 12866 (See Unit V.A.), and because EPA does not believe the environmental health or safety risks addressed by this action present a disproportionate risk to children. However, EPA's 2021 Policy on Children's Health applies to this action.

This rule proposes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

I. Executive Order 13211: Actions Concerning Regulations That Significantly Affect Energy Supply, Distribution or Use

This action is not subject to Executive Order 13211 (66 FR 28355) (May 22, 2001) because it is not a significant regulatory action under Executive Order 12866. However, EPA's 2021 Policy on Children's Health applies to this action.

This rule proposes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

J. National Technology Transfer Advancement Act (NTTAA)

This action does not involve technical standards that would require Agency consideration under NTTAA section 12(d), 15 U.S.C. 272.

List of Subjects in 40 CFR Part 180

Environmental protection, Administrative practice and procedure, Agricultural commodities, Pesticides and pests, Reporting and recordkeeping requirements.

Dated: May 29, 2025.
Edward Messina,
Director, Office of Pesticide Programs.

For the reasons set forth in the preamble, EPA is proposing to amend 40 CFR chapter I as follows:

PART 180—TOLERANCES AND EXEMPTIONS FOR PESTICIDE CHEMICAL RESIDUES IN FOOD

1. The authority citation for part 180 continues to read as follows:

Authority: 21 U.S.C. 321(q), 346a and 371.

2. In § 180.130, revise and republish paragraph (a) to read as follows:

§ 180.130 Hydrogen Cyanide; tolerances for residues.

(a) General. Tolerances are established for residues of sodium cyanide, including its metabolites and degradates, in or on the commodities in table 1 to this paragraph (a). Compliance with the tolerance levels specified in table 1 to this paragraph (a) is to be determined by measuring only hydrogen cyanide in or on the commodity.

Table 1 to Paragraph (a)
Commodity | Parts per million
Fruit, citrus, group 10-10 | 50

* * * * *

3. In § 180.155, amend the table in paragraph (a) by adding the heading “Table 1 to Paragraph (a)” and revising the entry for “Rambutan” as follows:

§ 180.155 1-Naphthaleneacetic acid; tolerances for residues.

(a) * * *

Table 1 to Paragraph (a)
Commodity | Parts per million
* * * * *
Rambutan | 2
* * * * *

* * * * *

4. In § 180.301:

a. Revise the introductory text to paragraph (a);

b. Amend the table in paragraph (a) by:

i. Adding the heading “Table 1 to Paragraph (a)”;

ii. Adding an entry for “Barley, hay” in alphabetical order;

iii. Removing the entry for “Canola, seed”; and

iv. Adding the entries for “Cotton, gin byproducts”; “Oat, hay”; “Rapeseed, seed”, and “Wheat, hay” in alphabetical order.

The revision and additions read as follows:

§ 180.301 Carboxin; tolerances for residues.

(a) General. Tolerances are established for residues of carboxin, 5,6-dihydro-2-methyl-N-phenyl-1,4-oxathiin-3-carboxamide, including its metabolites and degradates, in or on the commodities in table 1 to this paragraph (a). Compliance with the tolerance levels specified in table 1 to this paragraph (a) is to be determined by measuring only those carboxin residues convertible to aniline, expressed as the stoichiometric equivalent of carboxin, in or on the commodities.

Table 1 to Paragraph (a)
Commodity | Parts per million
* * * * *
Barley, hay | 0.2
* * * * *
Cotton, gin byproducts | 3
* * * * *
Oat, hay | 0.2
* * * * *
Rapeseed, seed | 0.03
* * * * *
Wheat, hay | 0.2
* * * * *

* * * * *

5. In § 180.331:

a. Revise the section heading; and

b. Revise and republish paragraph (a).

The revisions read as follows:

§ 180.331 2,4-DB; tolerances for residues.

(a) General. Tolerances are established for residues of the herbicide 4-(2,4-dichlorophenoxy) butanoic acid (2,4-DB), including its metabolites and degradates, in or on the commodities in table 1 to this paragraph (a). Compliance with the tolerance levels specified in table 1 to this paragraph (a) is to be determined by measuring only herbicide 2,4-DB, both free and conjugated, in or on the commodity.

Table 1 to Paragraph (a)
Commodity | Parts per million
Alfalfa, forage | 0.7
Alfalfa, hay | 2
Cattle, meat byproducts | 0.05
Clover, forage ¹ | 0.2
Clover, hay ¹ | 0.2
Goat, meat byproducts | 0.05
Hog, meat byproducts | 0.05
Horse, meat byproducts | 0.05
Peanut | 0.2
Peppermint, tops ¹ | 0.2
Sheep, meat byproducts | 0.05
Soybean, forage | 0.7
Soybean, hay | 2
Soybean, seed | 0.5
Spearmint, tops ¹ | 0.2
Trefoil, forage | 0.7
Trefoil, hay | 2
¹ These tolerances expire on December 8, 2025.

* * * * *

6. In § 180.345:

a. Amend the table in paragraph (a) by:

i. Adding the heading “Table 1 to Paragraph (a)”;

ii. Adding an entry for “Beet, garden, leaves” in alphabetical order;

iii. Removing the entry for “Beet, garden, tops”;

iv. Revising the entries for “Beet, sugar, molasses” and “Beet, sugar, tops”;

v. Removing the entry for “Garlic”;

vi. Adding the entries for “Garlic, bulb” and “Grass, forage, fodder and hay, group 17, straw” in alphabetical order; and

vii. Removing the entry for “Grass, straw”; and

b. Revise and republish the table in paragraph (c); and

c. Revise and republish paragraph (d);

The additions and revisions read as follows:

§ 180.345 Ethofumesate; tolerances for residues.

(a) * * *

Table 1 to Paragraph (a)
Commodity | Parts per million
Beet, garden, leaves | 5
* * * * *
Beet, sugar, molasses | 2
* * * * *
Beet, sugar, tops ¹ | 4
* * * * *
Garlic, bulb | 0.25
* * * * *
Grass, forage, fodder and hay, group 17, straw | 1
* * * * *
¹ This tolerance expires on [DATE 6 MONTHS AFTER DATE OF PUBLICATION OF THE FINAL RULE IN THE FEDERAL REGISTER].

* * * * *

(c) * * *

Table 2 to Paragraph (c)
Commodity | Parts per million
Carrot, roots | 7

(d) Indirect or inadvertent residues. Tolerances are established for the combined indirect or inadvertent residues of the herbicide ethofumesate, including its metabolites and degradates, in or on the commodities in table 3 to this paragraph (d). Compliance with the tolerance levels specified in table 3 to this paragraph (d) is to be determined by measuring only the sum of ethofumesate, 2-ethoxy-2,3-dihydro-3,3-dimethyl-5-benzofuranyl methanesulfonate, and its metabolites 2-hydroxy-2,3-dihydro-3,3-dimethyl-5-benzofuranyl methanesulfonate, and 2,3-dihydro-3,3-dimethyl-2-oxo-5-benzofuranylmethanesulfonate, calculated as the stoichiometric equivalent of ethofumesate, in or on the commodity.

Table 3 to Paragraph (d)
Commodity | Parts per million
Animal feed, nongrass, group 18 | 1.5
Grain, cereal, forage, hay, stover, and straw, group 16-22 | 1.5
Vegetable, legume, forage and hay, group 7-22 | 0.5

7. In § 180.401:

a. Revise the introductory text to paragraph (a);

b. Amend the table in paragraph (a) by:

i. Adding the heading “Table 1 to Paragraph (a)”; and

ii. Adding entries for “Celery”; “Endive”; “Lettuce, head”; and “Lettuce, leaf” in alphabetical order; and

c. Remove and reserve paragraph (c).

The revision and additions read as follows:

§ 180.401 Thiobencarb; tolerances for residues.

(a) General. Tolerances are established for residues of the herbicide thiobencarb, including its metabolites and degradates, in or on the commodities in table 1 to this paragraph (a). Compliance with the tolerance levels specified in table 1 to this paragraph (a) is to be determined by measuring only the sum of thiobencarb and its metabolites containing the chlorobenzyl or chlorophenyl moieties, calculated as the stoichiometric equivalent of thiobencarb, in or on the commodity.

Table 1 to Paragraph (a)
Commodity | Parts per million
* * * * *
Celery ¹ | 0.2
* * * * *
Endive ¹ | 0.2
* * * * *
Lettuce, head ¹ | 0.2
Lettuce, leaf ¹ | 0.2
* * * * *
¹ There are no U.S. registrations for this commodity.

* * * * *

(c) [Reserved]

* * * * *

8. In § 180.491, revise and republish paragraph (a) to read as follows:

§ 180.491 Propylene oxide; tolerances for residues.

(a) General. Tolerances are established for residues of the fumigant propylene oxide, including its metabolites and its degradates, including the reaction products propylene chlorohydrin and propylene bromohydrin, in or on the commodities in table 1 to this paragraph (a). Compliance with the tolerance levels specified in table 1 to this paragraph (a) is to be determined by measuring only propylene oxide in or on the commodity.

Table 1 to Paragraph (a)
Commodity | Parts per million
Cacao bean, cocoa powder | 200
Cacao bean, dried bean | 200
Fig, dried | 3
Garlic, dried | 300
Grape, raisin | 1
Herbs and spices, group 19, dried | 300
Nut, tree, group 14-12 | 300
Onion, dried | 300
Plum, prune, dried | 2

* * * * *

9. In § 180.562, revise and republish paragraph (a) to read as follows:

§ 180.562 Flucarbazone-sodium; tolerances for residues.

(a) General. (1) Tolerances are established for residues of the herbicide flucarbazone-sodium, including its metabolites and degradates, in or on the commodities in table 1 to this paragraph (a)(1). Compliance with the tolerance levels specified is to be determined by measuring the sum of flucarbazone-sodium (4,5-dihydro-3-methoxy-4-methyl-5-oxo-N-((2-(trifluoromethoxy)phenyl)sulfonyl)-1H-1,2,4-triazole-1-carboxamide sodium salt) and its metabolite desmethyl MKH 6562 (4,5-dihydro-3-methoxy-5-oxo-N-((2 (trifluoromethoxy)phenyl)sulfonyl)-1H-1,2,4-triazole-1-carboxamide) calculated as the stoichiometric equivalent of flucarbazone-sodium.

Table 1 to Paragraph (a)(1)
Commodity | Parts per million
Wheat, forage | 0.3
Wheat, grain | 0.1
Wheat, hay | 0.2
Wheat, straw | 0.05

(2) Tolerances are established for residues of the herbicide flucarbazone-sodium, including its metabolites and degradates, in or on the commodities in table 2 to this paragraph (a)(2). Compliance with the tolerance levels specified is to be determined by measuring the sum of flucarbazone-sodium (4,5-dihydro-3-methoxy-4-methyl-5-oxo-N-((2-(trifluoromethoxy)phenyl)sulfonyl)-1H-1,2,4-triazole-1-carboxamide sodium salt), its metabolite desmethyl MKH 6562 (4,5-dihydro-3-methoxy-5-oxo-N-((2-(trifluoromethoxy)phenyl)sulfonyl)-1H-1,2,4-triazole-1-carboxamide), and its metabolites converted to 2-(trifluoromethoxy)benzene sulfonamide calculated as the stoichiometric equivalent of flucarbazone-sodium.

Table 2 to Paragraph (a)(2)
Commodity | Parts per million
Cattle, liver | 1.5
Cattle, meat | 0.01
Cattle, meat byproducts, except liver | 0.01
Goat, liver | 1.5
Goat, meat | 0.01
Goat, meat byproducts, except liver | 0.01
Hog, liver | 1.5
Hog, meat | 0.01
Hog, meat byproducts, except liver | 0.01
Horse, liver | 1.5
Horse, meat | 0.01
Horse, meat byproducts, except liver | 0.01
Milk | 0.005
Sheep, liver | 1.5
Sheep, meat | 0.01
Sheep, meat byproducts, except liver | 0.01

* * * * *

[FR Doc. 2025-10208 Filed 6-6-25; 8:45 am]

BILLING CODE 6560-50-P